DEPARTMENT OF JUSTICE

Notice of Lodging of Proposed Consent Decree Under the Comprehensive Environmental Response, Compensation and Liability Act

On November 8, 2023, the Department of Justice lodged a proposed Consent Decree with the United States District Court for the Northern District of Indiana in the lawsuit entitled United States and the State of Indiana v. Cleveland-Cliffs Burns Harbor LLC and Cleveland-Cliffs Steel LLC, Case No. 23-381 (N.D. Ind.).

The Complaint seeks compensation for natural resource damages relating to a steel manufacturing and finishing facility in Burns Harbor, Indiana, owned and operated by Cleveland-Cliffs Burns Harbor LLC and its corporate parent Cleveland-Cliffs Steel LLC (collectively, “Cleveland-Cliffs”). The Complaint alleges that Cleveland-Cliffs released cyanide and ammonia into the East Branch of the Little Calumet River during an August 2019 incident, which led to beach closures, a fish kill, and other natural resource damages recoverable under the Comprehensive Environmental Response, Compensation and Liability Act. Under the Consent Decree, Cleveland-Cliffs would be required to provide compensation for the natural resource damages. In particular, the Consent Decree requires: (1) the donation and conservation of two approximately one-acre parcels of land bordering the East Branch of the Little Calumet River and near the Indiana Dunes National Park; (2) payment of $409,533 to the DOI Natural Resource Damage Assessment and Restoration Fund; and (3) payment of $590,173 to the governments for reimbursement of natural resource damages assessment costs.

The publication of this notice opens a period for public comment on the Consent Decree. Comments should be addressed to the Assistant Attorney General, Environment and Natural Resources Division, and should refer to United States and the State of Indiana v. Cleveland-Cliffs Burns Harbor LLC and Cleveland-Cliffs Steel LLC, D.J. Ref. No. 90-5-1-1-12268/2. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $6.25 (25 cents per page reproduction cost) payable to the United States Treasury.

Patricia McKenna,
Assistant Section Chief, Environmental Enforcement Section, Environment and Natural Resources Division.

[FR Doc. 2023-25570 Filed 11-17-23; 8:45 am]

BILLING CODE 4410-15-P